FEDERAL COMMUNICATIONS COMMISSION

47 CFR Part 73

[MB Docket No. 23-279; RM-11956; DA 23-981; FR ID 179884]

Television Broadcasting Services Tulare, California

AGENCY: Federal Communications Commission.

ACTION: Final rule.

SUMMARY: The Video Division, Media Bureau (Bureau) has before it a Notice of Proposed Rulemaking issued in response to a Petition for Rulemaking filed by One Ministries, Inc. (Petitioner). The Petitioner requests the allotment of reserved noncommercial educational (NCE) channel *3 to Tulare, California (Tulare), in the Table of TV Allotments as the community's first local television service. The Petitioner filed comments in support of the petition, as required by the Commission's rules, reaffirming its commitment to apply for channel *3, and if authorized, to construct the facility.

DATES: Effective November 27, 2023.

FOR FURTHER INFORMATION CONTACT: Joyce Bernstein, Media Bureau, at (202) 418-1647 or Joyce.Bernstein@fcc.gov; or Emily Harrison, Media Bureau, at (202) 418-1665 or Emily.Harrison@fcc.gov.

SUPPLEMENTARY INFORMATION: The proposed rule was published at 88 FR 57032 on August 22, 2023. The Petitioner filed comments in support of the petition reaffirming its commitment to apply for channel *3. No other comments were received.

The Bureau believes the public interest would be served by allotting channel *3 at Tulare, which has a population of 70,733 and clearly qualifies for community of license status for allotment purposes. As stated in the NPRM, Tulare is known for its agricultural production and is home to the nation's largest single-site dairy complex. In addition, Petitioner states that Tulare has a mayor and five council members; police, public works, planning, engineering, and community and economic development departments; a library, school district; and numerous businesses and places of worship. In addition, the proposal would result in a first local service to Tulare under the Commission's second allotment priority. The Petitioner demonstrates, and a staff engineering analysis confirms, that channel *3 can be allotted to Tulare consistent with the minimum geographic spacing requirements for new DTV allotments in section 73.623(d) of the rules. In addition, the allotment point complies with section 73.625(a)(1) of the rules as the entire community of Tulare is encompassed by the 35 dBμ contour.

This is a synopsis of the Commission's Report and Order, MB Docket No. 23-279; RM-11956; DA 23-981, adopted October 16, 2023, and released October 16, 2023. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(j), amend the Table of TV Allotments, under California, by adding an entry for Tulare to read as follows:

§ 73.622 Digital television table of allotments.

* * * * *

(j) * * *

Community | Channel No.
* * * * *
California
* * * * *
Tulare | *3
* * * * *

[FR Doc. 2023-23468 Filed 10-25-23; 8:45 am]

BILLING CODE 6712-01-P